DEPARTMENT OF COMMERCE

National Telecommunications and Information Administration

Call for Applications for the Commerce Spectrum Management Advisory Committee

AGENCY: National Telecommunications and Information Administration, U.S. Department of Commerce.

ACTION: Reopening of Application Period.

SUMMARY: The National Telecommunications and Information Administration (NTIA) seeks applications from persons interested in serving on the Department of Commerce's Spectrum Management Advisory Committee (CSMAC) for new two-year terms. This Notice reopens the application period announced in the Federal Register on May 6, 2009 (the May Notice) in order to identify additional candidates who may provide balance in terms of points of view, as well as diversity, to the committee. Any applicant who provided NTIA with the requested materials in response to the May Notice will be considered for appointment and need not resubmit materials, although they are permitted to supplement their applications with new or additional information.

DATES: Applications must be postmarked or electronically transmitted on or before February 1, 2010.

ADDRESSES: Persons wishing to submit applications should send their resumes or curriculum vitae and a statement summarizing the qualifications of the nominee and identifying any particular expertise or area of interest relevant to the CSMAC's work to the attention of: Joe Gattuso, Designated Federal Officer, by email to spectrumadvisory@ntia.doc.gov; by U.S. mail or commercial delivery service to: Office of Policy Analysis and Development, National Telecommunications and Information Administration, 1401 Constitution Avenue NW, Room 4725, Washington, DC 20230; or by facsimile transmission to (202) 482-6173.

FOR FURTHER INFORMATION CONTACT: Joe Gattuso, Designated Federal Officer, at (202) 482-0977 or jgattuso@ntia.doc.gov.

SUPPLEMENTARY INFORMATION: The Secretary of Commerce appoints members to the CSMAC for two-year terms. They are experts in radio spectrum policy, do not represent any organization or interest, and serve in the capacity of Special Government Employees. Members do not receive compensation or reimbursement for travel or for per diem expenses. Members may not be federally registered lobbyists. Previously, the charter allowed CSMAC to have up to 20 members. The renewed charter, effective April 6, 2009, allows up to 25 members to serve on the CSMAC.

On May 6, 2009, NTIA published a Notice in the Federal Register seeking additional persons interested in appointment, with applications due June 1, 2009 (the May Notice), 74 Fed. Reg. 20922 (May 6, 2009), available at http://www.ntia.doc.gov/frnotices/2009/ CSMACCallForApplications May609.pdf. In November 2009, the Secretary appointed three new members from among those applications, bringing the current membership to 22 members.

NTIA intends to recommend that the Secretary appoint up to three additional members. The Federal Advisory Committee Act (5 USC App. 2) and CSMAC's charter require that the committee be fairly balanced in terms of the points of view represented by the members and the functions to be performed. This Notice reopens the application period in order to identify additional candidates who may provide such balance, as well as diversity, to the committee. Any applicant who provided NTIA with the requested materials in response to the May Notice will be considered for appointment and need not resubmit materials, although they are permitted to supplement their applications with new or additional information.

The evaluation criteria for selecting members contained in the May Notice shall continue to apply. However, members may not be federally registered lobbyists.

Applicants should submit their resumes or curriculum vitae and a statement that summarizes the applicant's qualifications and experience. The statement should identify any particular expertise or area of interest relevant to the CSMAC's work. This will aid in the assessment of whether the applicant's qualifications and experience will contribute to the balance of points of view represented on the committee.

Dated: December 31, 2009.
Milton Brown,
Acting Chief Counsel, National Telecommunications and Information Administration.

[FR Doc. 2010-31384 Filed 1-5-10; 8:45 am]

BILLING CODE 3510-60-S